DEPARTMENT OF THE INTERIOR

National Park Service

[NPS-PWR-PWRO-0411-10063; 2310-0085-422]

Saline Valley Warm Springs Management Plan/Environmental Impact Statement, Death Valley National Park, Inyo County, CA

AGENCY: National Park Service, Department of the Interior.

ACTION: Notice of Intent to Prepare an Environmental Impact Statement for the Saline Valley Warm Springs Management Plan, Death Valley National Park.

SUMMARY: In accordance with § 102(2)(C) of the National Environmental Policy Act of 1969, the National Park Service (NPS) is initiating the conservation planning and environmental impact analysis process for the Saline Valley Warm Springs Management Plan for Death Valley National Park. This effort will result in a plan that provides a sound basis for guiding management actions within the Saline Valley Warms Springs area of Death Valley National Park, based upon evaluation of a range of reasonable alternatives regarding recreational use and tribal interests. The plan would fulfill this need and complete the park's broad-level management objectives for this area, as called for in the 2001 General Management Plan (GMP).

DATES: All comments must be postmarked or transmitted not later than August 6, 2012.

SUPPLEMENTARY INFORMATION: As part of the EIS process, the NPS will evaluate different approaches for managing the Saline Valley Warm Springs area to determine the potential impacts on visitor access, asset management, water resources, biological and cultural resources, human health and safety, aesthetics, visitor experience, wilderness character, and other stewardship considerations. Alternatives to be considered include no-action and reasonable action alternatives, such as establishing designated camping areas, limiting further development of the springs, restoration or partial restoration of the springs, and either closure or authorization of the nearby airstrip.

Saline Valley is a large desert valley located in the northwest portion of Death Valley National Park. Despite the variety of resources within this remote area, many people associate Saline Valley only with Warm Springs. Since the 1940s, impromptu developments were incrementally added to the area, particularly at Lower Warm Spring. Over the years, the soaking pools became “clothing optional” sites. Warm Springs and the rest of Saline Valley were transferred to Death Valley National Park from the Bureau of Land Management with the passage of the California Desert Protection Act in 1994. Under NPS management, efforts have been made to enforce measures to reduce impacts on certain resources, manage or remove non-native species, and discontinue use of unimproved airstrips.

In the late 1990s, preliminary scoping meetings for the draft GMP attempted to establish a vision for more direct management and oversight of the Saline Valley Warm Springs area. This became controversial because many visitors wanted a less regulatory approach for accommodating bathers and campers at Warm Springs. However, the Warm Springs possess religious, historical, and spiritual significance for the Timbisha Shoshone Tribe. In addition, the Timbisha Shoshone Homeland Act of 2000 mandates that the park and the tribe ensure that certain park resources and values are protected by partnerships between the NPS and the Tribe. As a consequence of conflicting perceptions and values, park staff decided to remove site-specific details from the GMP and instead develop a separate plan specifically focused on the Saline Valley Warm Springs area in order to adequately address the Timbisha's concerns.

For this EIS the Warm Springs area of Saline Valley is defined as an approximately 100 acre tract of non-wilderness surrounded by backcountry and designated Wilderness. The park is currently preparing a separate Backcountry and Wilderness Stewardship Plan (Wilderness Plan) and Environmental Assessment that will provide a framework for managing lands and resources surrounding Warm Springs. The Saline Valley Warm Springs Management Plan will be prepared separately in order to concentrate on the issues specific to the Warm Springs, but in coordination with the Wilderness Plan so as not to conflict with the values and desired conditions set forth in that plan.

Scoping Process: This notice formally initiates the public scoping comment phase necessary for informing preparation of the Environmental Impact Statement (EIS). Early public comment will be elicited regarding issues and concerns, the nature and extent of potential environmental impacts (and as appropriate, mitigation measures), and alternatives that should be addressed in preparing the Draft EIS. The NPS welcomes information and suggestions from the public regarding resource protection, visitor use, and land management. A scoping brochure has been prepared that details the issues identified to date; copies of the brochure as well as current information about the EIS effort may be obtained from Mike Cipra at Death Valley National Park, P.O. Box 579, Death Valley, CA 92328 (760) 786-3227.

During the scoping phase any person desiring to comment on any issues associated with the plan, or wishing to provide relevant environmental information, may use any one of several methods. If you wish to comment electronically, you may submit your comments via email to DEVA_Planning@nps.gov or online via the NPS Planning, Environment and Public Comment (PEPC) Web site by visiting http://parkplanning.nps.gov/SalineValleyWarmSprings. If it is more convenient, or if you lack access to a computer, you can hand-deliver or mail your written comments to: Superintendent, Death Valley National Park, Attn: Saline Valley Warm Springs Management Plan, Death Valley National Park, P.O. Box 579, Death Valley, California 92328.

At this time, it is expected that several public meetings will be held in towns near the park during the week of June 10-16, 2012: Bishop, Ridgecrest, and Victorville, California. Confirmed details regarding these meetings will be posted on the project Web site (noted above) and will be announced in the local press; details may also be obtained by contacting the park directly. These meetings will provide current information, and provide an opportunity to ask questions, comment on issues, and suggest potential alternatives to be addressed in developing the Draft EIS; written comments will also be accepted. The project Web site will provide the most up-to-date information regarding the project, including project description, EIS process updates, meeting notices, reports and documents, and useful links associated with the project.

Comments will not be accepted by fax or in any other way than those specified above. Comments in any format (hard copy or electronic) submitted by an individual or organization on behalf of another individual or organization will not be accepted.

Before including your address, phone number, email address, or other personal identifying information in your comment, you should be aware that your entire comment—including your personal identifying information—may be made publicly available at any time. While you can ask us in your comment to withhold your personal identifying information from public review, we cannot guarantee that we will be able to do so.

Decision Process: Following the scoping phase and consideration of public concerns and comments from agencies, a Draft EIS will be prepared and released for public review. Availability will be announced through the publication of a Notice of Availability in the Federal Register, as well as through local and regional news media, direct mailing to the project mailing list, and via the Project Web site. Following due consideration of all agency and public comments on the Draft EIS, a Final EIS will be prepared and its availability for public review will be similarly announced. Not sooner than 30 days after release of the Final EIS, a Record of Decision will be prepared. As a delegated EIS, the official responsible for final approval of the Saline Valley Warm Springs Management Plan is the Regional Director, Pacific West Region. Subsequently the official responsible for implementation of the approved plan would be the Superintendent, Death Valley National Park.

Dated: March 22, 2012.
Christine S. Lehnertz,
Regional Director, Pacific West Region.

[FR Doc. 2012-13612 Filed 6-4-12; 8:45 am]

BILLING CODE 4312-FF-P